DEPARTMENT OF HEALTH AND HUMAN SERVICES

Centers for Disease Control and Prevention

Disease, Disability, and Injury Prevention and Control Special Emphasis Panel (SEP): Initial Review

The meeting announced below concerns Research and Technical Assistance for Public Health Interventions in Haiti to Support Post Earthquake Reconstruction, Cholera and HIV/AIDS Response, FOA GH12-001, and Research and Technical Assistance for Public Health Laboratories in Haiti to Support Post Earthquake Reconstruction, Cholera and HIV/AIDS Response, FOA GH12-002, initial review.

In accordance with Section 10(a)(2) of the Federal Advisory Committee Act (Pub. L. 92-463), the Centers for Disease Control and Prevention (CDC) announces the aforementioned meeting:

Time and Date: 10:00 a.m.-12:00 p.m., June 26, 2012 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Research and Technical Assistance for Public Health Interventions in Haiti to Support Post Earthquake Reconstruction, Cholera and HIV/AIDS Response, FOA GH12-001,” and “Research and Technical Assistance for Public Health Laboratories in Haiti to Support Post Earthquake Reconstruction, Cholera and HIV/AIDS Response, FOA GH12-002, initial review.”

Contact Person for More Information: Hylan D. Shoob, Ph.D., M.S.P.H., Scientific Review Officer, CDC, 1600 Clifton Road, NE., Mailstop D72, Atlanta, Georgia 30333, Telephone: (404) 639-4796.

The Director, Management Analysis and Services Office, has been delegated the authority to sign Federal Register notices pertaining to announcements of meetings and other committee management activities, for both the Centers for Disease Control and Prevention and the Agency for Toxic Substances and Disease Registry.

Dated: May 4, 2012.
Cathy Ramadei,
Acting Director, Management Analysis and Services Office, Centers for Disease Control and Prevention.

[FR Doc. 2012-11550 Filed 5-11-12; 8:45 am]

BILLING CODE 4163-18-P